FEDERAL COMMUNICATIONS COMMISSION

Notice of Public Information Collection(s) Being Reviewed by the Federal Communications Commission

March 4, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 14, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION:

OMB Control Number: 3060-0068.

Title: Application for Consent to Assign an Experimental Authorization.

Form Number: FCC 702.

Type of Review: Extension of a currently approved collection.

Respondents: Business or other for-profit entities; Not-for-profit institutions.

Number of Respondents: 10.

Estimated Time per Response: 0.6 hr. (36 mins.).

Frequency of Response: On occasion reporting requirements.

Total Annual Burden: 6 hrs.

Total Annual Costs: $500.

Needs and Uses: In November 2001, the FCC revised and reinstated FCC Form 702. The Communications Act of 1934, as amended, and 47 CFR 5.59 of FCC Rules require applications for Experimental Radio Services to submit FCC Form 702 when the legal right to control the use and operation of a station is to be transferred as a result of a voluntary act (contract or other agreement) or an involuntary act (death or legal disability) of the grantee of a station authorization or by involuntary assignment of the physical property constituting the station under a court decree in bankruptcy proceedings, or other court order, or by operation of law in any other manner. Form 702's revisions were the following: (1) The expiration date was deleted; (2) Section 1 (Fee Portion) was deleted; (3) questions 2, 4, 7b, 7c, 9, 10, 13-19, and 12c-26 were removed; (4) the FOR FCC USE ONLY fields were removed; (5) assignor's and assignee's e-mail address fields were added; (6) a field for “FCC Registration Number (FRN)” was added; (7) the instructions pertaining Section I (Fee Portion) were removed; (8) the “No. of Stations” and “Service” columns were deleted (9) the item numbers were changed; (10) instructions referring to FCC Forms 159 and 160 were added; (11) an Internet URL for the FCC Registration Number (FRN) was added; (12) the Experimental Radio Service address was added; (13) the courier address changed.

OMB Control Number: 3060-0072.

Title: Airborne Mobile Radio Telephone License Application.

Form Number: FCC 409.

Type of Review: Extension of a currently approved collection.

Respondents: Business or other for-profit entities.

Number of Respondents: 260.

Estimated Time per Response: 5 mins. (0.083 hrs.).

Total Annual Burden: 22 hours.

Total Annual Cost: $13,000.

Needs and Uses: Individuals who intend to become subscribers to a common carrier service use FCC Form 409 to apply for, to modify, and/or to renew their license(s) giving them authority to operate an airborne mobile radio telephone. In recent years, the number of respondents has declined dramatically.

OMB Control Number: 3060-0139.

Title: Application for Antenna Structure Registration.

Form Number: FCC 854 and FCC 854R.

Type of Review: Extension of a currently approved collection.

Respondents: Individuals or households; Business or other for-profit; Non-Profit Institutions; and state, local, or tribal government.

Number of Respondents: 9,000.

Estimated Time per Response: 30 Minutes.

Total Annual Burden: 6,750 hours.

Total Annual Costs: $182,000.

Needs and Uses: Owners of wire or radio communications towers with antenna structures use FCC Form 854 to register their structures within the United States, to notify the Commission when a structure has been built, to make changes to an existing registered structure, or to notify the Commission when a structure is dismantled. 47 CFR part 17 and sections 303(q) and 503(b)(5) of the Communications Act, as amended, authorize the FCC to require the painting and/or illumination of radio towers where there is a reasonable possibility that an antenna structure may cause a hazard to air navigation. The FCC uses FCC Form 854R to notify an owner that the Commission has registered the tower structure, its modification, or the change of ownership.

OMB Control Number: 3060-0707.

Title: Over-the-Air Reception Devices.

Form Number: N/A.

Type of Review: Extension of a currently approved collection.

Respondents: State, local, or tribal government; Individuals or households.

Number of Respondents: 320.

Estimated Time per Response: 2 to 6 hours.

Frequency of Response: On occasion reporting requirements.

Total Annual Burden: 1,240 hours.

Total Annual Costs: $144,280.

Needs and Uses: The FCC uses petitions for waivers of Section 207 rules to determine whether the state, local, or non-governmental regulation or restriction is unique in a way that justifies waiver of our rules prohibiting restrictions of the use of over-the-air reception devices.

OMB Control Number: 3060-0669.

Title: Section 76.946, Advertising of Rates.

Form Number: N/A.

Type of Review: Extension of a currently approved collection.

Respondents: Business and other for-profit entities.

Number of Respondents: 10,400.

Estimated Time per Response: 30 mins. (0.5 hrs.).

Frequency of Response: Recordkeeping; On occasion reporting requirements; Third party disclosure.

Total Annual Burden: 5,200 hours.

Total Annual Costs: None.

Needs and Uses: Under 47 CFR 76.946 of FCC Rules, cable operators that advertise for basic service and cable programming service tiers are required to advertise rates that include all costs and fees. Cable systems that cover multiple franchise areas, having differing franchise fees or other franchise costs, different channel line-ups, or different rate structures, may advertise a complete range of fees without specific identification of the rate for each individual area. In such circumstances, the operator may advertise a “fee plus” rate that indicates the core rate plus the range of possible additions, depending upon the particular location of the subscriber. This requirement is to make consumers aware of all fees associated with basic service and cable programming service tier rates.

OMB Control Number: 3060-0795.

Title: Associate WTB Call Signs and Antenna Registration Numbers with Licensee's FRN.

Form Number: FCC 606.

Type of Review: Revision to a currently approved collection.

Respondents: Business or other for-profit entities; Individuals or households; Not-for-profit institutions; State, local, or tribal government.

Number of Respondents: 429,000.

Estimated Time per Response: 1 hour.

Total Annual Burden: 429,000 hours.

Total Annual Costs: None.

Needs and Uses: Licensees use FCC Form 606 to associate their FCC Registration Number (FRN) with their Wireless Telecommunications Bureau call signs and antenna structure registration numbers. In addition, those antenna structure tenant licensees subject to the Anti-Drug Abuse Act of 1998 must use Form 606 to register their antenna structures. The form must be submitted before filing any subsequent applications associated with the existing license or antenna structure registration and prior to applying for an initial Wireless Telecommunications license or antenna structure registration. The Commission is revising FCC Form 606 and its instructions to remove information about the TIN registration requirements (including the title of the form) due to the implementation of the Commission Registration System (CORES) and to facilitate compliance with the Debt Collection Improvement Act of 1996 (DCIA).

OMB Control Number: 3060-0862.

Title: Handling Confidential Information, GC Docket No. 96-55.

Form Number: N/A.

Type of Review: Extension of a currently approved collection.

Respondents: Business or other for-profit; Not-for-profit institutions; Federal Government; State, Local or Tribal Government.

Number of Respondents: 600.

Estimated Time per Response: 1 to 3 hours.

Total Annual Burden: 800 hours.

Total Annual Costs: $23,000.

Needs and Uses: On August 4, 1998, the FCC released a Report and Order, Examination of Current Policy Concerning the Treatment of Confidential Information Submitted to the Commission (R&O) in GC Docket No. 96-55. The R&O included a Model Protective Order (MPO) that is used, when appropriate, to grant limited access to information that the Commission determines should not be routinely available for public inspection. The party granted access to the confidential information materials must keep a written record of all copies made and provide this record to the submitter of the confidential materials on request. The approach was adopted to facilitate the use of confidential materials under an MPO, instead of restricting access to materials. In addition, the FCC amended 47 CFR 0.459(b) to set forth the type of information that should be included when a party submits information to the Commission for which it seeks confidential treatment. This listing of the types of information to be submitted was adopted to provide guidance to the public for confidentiality requests.

Federal Communications Commission.
William F. Caton,
Acting Secretary.

[FR Doc. 02-6313 Filed 3-14-02; 8:45 am]

BILLING CODE 6712-01-P